DEPARTMENT OF ENERGY

Federal Energy Regulatory Commission

Combined Notice of Filings #1

Take notice that the Commission received the following exempt wholesale generator filings:

Docket Numbers: EG21-248-000.

Applicants: IP Radian, LLC.

Description: Notice of Self-Certification of Exempt Wholesale Generator Status of IP Radian, LLC.

Filed Date: 9/13/21.

Accession Number: 20210913-5183.

Comment Date: 5 p.m. ET 10/4/21.

Take notice that the Commission received the following electric rate filings:

Docket Numbers: ER21-2043-000.

Applicants: PJM Interconnection, L.L.C.

Description: PJM Interconnection, L.L.C. submits informational filing on posted Effective Load Carrying Capability methodology documentation, model, and input data.

Filed Date: 9/13/21.

Accession Number: 20210913-5088.

Comment Date: 5 p.m. ET 10/4/21.

Docket Numbers: ER21-2183-001.

Applicants: Southwest Power Pool, Inc.

Description: Tariff Amendment: 3825 Prairie Hills Wind GIA—Deficiency Response to be effective 6/14/2021.

Filed Date: 9/13/21.

Accession Number: 20210913-5164.

Comment Date: 5 p.m. ET 10/4/21.

Docket Numbers: ER21-2261-001.

Applicants: Exelon Generation Company, LLC.

Description: Tariff Amendment: Request for Seven Day Deferral of Commission Action to be effective 9/14/2021.

Filed Date: 9/13/21.

Accession Number: 20210913-5074.

Comment Date: 5 p.m. ET 9/20/21.

Docket Numbers: ER21-2878-000.

Applicants: Salt Creek Solar, LLC.

Description: Request for Temporary Tariff Waiver, et al. of Salt Creek Solar, LLC.

Filed Date: 9/10/21.

Accession Number: 20210910-5178.

Comment Date: 5 p.m. ET 10/1/21.

Docket Numbers: ER21-2879-000.

Applicants: PJM Interconnection, L.L.C.

Description: § 205(d) Rate Filing: Original WMPA, Service Agreement No. 6187; Queue No. AF2-314 to be effective 8/12/2021.

Filed Date: 9/13/21.

Accession Number: 20210913-5036.

Comment Date: 5 p.m. ET 10/4/21.

Docket Numbers: ER21-2880-000.

Applicants: The Connecticut Light and Power Company.

Description: § 205(d) Rate Filing: Engineering Design and Procurement Agreement with EIP Investments-Black Rock Sub to be effective 9/14/2021.

Filed Date: 9/13/21.

Accession Number: 20210913-5077.

Comment Date: 5 p.m. ET 10/4/21.

Docket Numbers: ER21-2881-000.

Applicants: Power Authority of the State of New York, New York Independent System Operator, Inc.

Description: § 205(d) Rate Filing: Power Authority of the State of New York submits tariff filing per 35.13(a)(2)(iii: 205 SGIA between NYISO and NYPA for North Country SA No. 2648—CEII to be effective 8/27/2021.

Filed Date: 9/13/21.

Accession Number: 20210913-5089.

Comment Date: 5 p.m. ET 10/4/21.

Docket Numbers: ER21-2882-000.

Applicants: Pacific Gas and Electric Company.

Description: Application to Recover 50 Percent of Abandoned Plant Costs of Pacific Gas and Electric Company.

Filed Date: 9/10/21.

Accession Number: 20210910-5184.

Comment Date: 5 p.m. ET 10/1/21.

Docket Numbers: ER21-2883-000.

Applicants: New York Independent System Operator, Inc.

Description: § 205(d) Rate Filing: NYISO 205: Metering Services for Demand Side Resources to be effective 11/13/2021.

Filed Date: 9/13/21.

Accession Number: 20210913-5149.

Comment Date: 5 p.m. ET 10/4/21.

Take notice that the Commission received the following electric securities filings:

Docket Numbers: ES21-67-000.

Applicants: Mississippi Power Company.

Description: Application Under Section 204 of the Federal Power Act for Authorization to Issue Securities of Mississippi power Company.

Filed Date: 9/10/21.

Accession Number: 20210910-5185.

Comment Date: 5 p.m. ET 10/1/21.

Docket Numbers: ES21-68-000.

Applicants: Old Dominion Electric Cooperative.

Description: Application Under Section 204 of the Federal Power Act for Authorization to Issue Securities of Old Dominion Electric Cooperative8.

Filed Date: 9/13/21.

Accession Number: 20210913-5159.

Comment Date: 5 p.m. ET 10/4/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 13, 2021.
Debbie-Anne A. Reese,
Deputy Secretary.

[FR Doc. 2021-20129 Filed 9-16-21; 8:45 am]

BILLING CODE 6717-01-P